DEPARTMENT OF STATE

[Public Notice 4568]

Bureau of Administration; Notice of Availability of Alternative Fueled Vehicle (AFV) Report for Fiscal Year 2003

AGENCY: Department of State.

ACTION: Notice.

SUMMARY: The U.S. Department of State, Bureau of Administration, is issuing this notice in order to comply with the Energy Policy Act of 1992 and 42 U.S.C. 13218(b). The purpose of this notice is to announce the public availability of the Department of State's interim Fiscal Year 2003 report at the following Web site: http://www.state.gov/m/a/26931.htm. A final report will be made available upon completion of data collection.

FOR FURTHER INFORMATION CONTACT: Questions regarding reports on the AFV report Web site should be addressed to the Domestic Fleet Management and Operations Division (A/OPR/GSM/FMO) [Attn: Barry Shpil], 2201 C Street NW (Room B258), Washington, DC 20520, phone 202-647-3628.

Dated: December 9, 2003.
Vincent J. Chaverini,
Deputy Assistant Secretary Office of Operations, Department of State.

[FR Doc. 03-31585 Filed 12-22-03; 8:45 am]

BILLING CODE 4710-24-P